NUCLEAR REGULATORY COMMISSION

[Docket No. 50-331; NRC-2018-0045]

NexEra Energy Duane Arnold, LLC: Duane Arnold Energy Center

AGENCY: Nuclear Regulatory Commission.

ACTION: License amendment application; withdrawal by applicant.

SUMMARY: The U.S. Nuclear Regulatory Commission (NRC) has granted the request of NextEra Energy Duane Arnold, LLC (NextEra) to withdraw its application dated December 19, 2017, for a proposed amendment to Duane Arnold Energy Center (DAEC), Facility Operating License No. DPR-49. The proposed change would have added Technical Specifications (TS) 3.2.3, “Linear Heat Generation Rate (LHGR),” and modified TS 1.1, “Definitions,” TS 3.4.1, “Recirculation Loops Operating,” and TS 5.6.5, “Core Operating Limits Report (COLR)” to reflect the LHGR change. Modifications associated with TS 3.2.1, “Average Planar Linear Heat Generation Rate (APLHGR),” and the new TS 3.2.3 would also have been added to the actions for TS 3.3.4.1, “End of Cycle Recirculation Pump Trip (EOC-RPT) Instrumentation,” and TS 3.7.7, “The Main Turbine Bypass System.” Subsequently, by letter dated August 21, 2018, NextEra withdrew the amendment request.

DATES: The applicable date of the withdrawal of the license amendment application is September 26, 2018.

ADDRESSES: Please refer to Docket ID NRC-2018-0045 when contacting the NRC about the availability of information regarding this document. You may obtain publicly-available information related to this document using any of the following methods:

• Federal Rulemaking Website: Go to http://www.regulations.gov and search for Docket ID NRC-2018-0045. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Mahesh Chawla, Office of Nuclear Reactor Regulation, U.S. Nuclear Regulatory Commission, Washington DC 20555-0001; telephone: 301-415-8371: email: Mahesh.Chawla@nrc.gov.

SUPPLEMENTARY INFORMATION: The NRC has granted the request of NextEra to withdraw its December 19, 2017 (ADAMS Accession No. ML17353A928), application for proposed amendment to DAEC, Facility Operating License No. DPR-49, located in Linn County, Iowa.

The proposed change would have added TS 3.2.3, “Linear Heat Generation Rate (LHGR),” and modified TS 1.1, “Definitions,” TS 3.4.1, “Recirculation Loops Operating,” and TS 5.6.5, “Core Operating Limits Report (COLR)” to reflect the LHGR change. Modifications associated with TS 3.2.1, “Average Planar Linear Heat Generation Rate (APLHGR),” and the new TS 3.2.3 would also have been added to the actions for TS 3.3.4.1, “End of Cycle Recirculation Pump Trip (EOC-RPT) Instrumentation,” and TS 3.7.7, “The Main Turbine Bypass System.”

The Commission had previously issued a notice of consideration of issuance of amendment published in the Federal Register on March 13, 2018 (83 FR 10920). However, by letter dated August 21, 2018, the licensee withdrew the proposed change (ADAMS Accession No. ML18233A333).

For further details with respect to this action, see the application for amendment dated December 19, 2017, and the licensee's letter dated August 21, 2018, which withdrew the application for license amendment.

Dated at Rockville, Maryland, this 21st day of September, 2018.
For the Nuclear Regulatory Commission.
Mahesh L. Chawla,
Project Manager, Plant Licensing Branch Ill, Division of Operating Reactor Licensing, Office of Nuclear Reactor Regulation.

[FR Doc. 2018-20933 Filed 9-25-18; 8:45 am]

BILLING CODE 7590-01-P